DEPARTMENT OF HOUSING AND URBAN DEVELOPMENT

[Docket No. FR-5038-N-01]

Notice of Proposed Information Collection: Comment Request: HOME Investment Partnership Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: May 12, 2006.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Peter Huber, (202) 708-2684 (this is not a toll-free number) for copies of the proposed forms and other available documents:

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HOME Investment Partnerships Program (HOME).

OMB Control Number: 2506-0171.

Description of the need for the Information and proposed use: The information collected through HUD's Integrated Disbursement and Information System (IDIS) (§ 92.502) is used by HUD Field Offices, HUD Headquarters and HOME Program Participating Jurisdictions (PJs). The information on program funds committed and disbursed is used by HUD to track PJ performance and to determine compliance with the statutory 24-month commitment deadline and the regulatory 5-year expenditure deadline (§ 92.500(d)). The project-specific property, tenant, owner and financial data is used to compile annual reports to Congress required at Section 284(b) of the Act, as well as to make program management decisions about how well program participants are achieving the statutory objectives of the HOME Program. Program management reports are generated by IDIS to provide data on the status of program participants' commitment and disbursement of HOME funds. These reports are provided to HUD staff as well as to HOME PJs.

Management reports required in conjunction with the Annual Performance Report (§ 92.509) are used by HUD Field Offices to assess the effectiveness of locally designed programs in meeting specific statutory requirements and by Headquarters in preparing the Annual Report to Congress. Specifically, these reports permit HUD to determine compliance with the requirement that PJs provide a 25% match for HOME funds expended during the Federal fiscal year (Section 220 of the Act) and that program income be used for HOME eligible activities (Section 219 of the Act), as well as the Women and Minority Business Enterprise requirements (§ 92.351(b)).

Financial, project, tenant and owner documentation is used to determine compliance with HOME Program cost limits (Section 212(e) of the Act), eligible activities (§ 92.205), and eligible costs (§ 92.206), as well as to determine whether program participants are achieving the income targeting and affordability requirements of the Act (Sections 214 and 215). Other information collected under Subpart H (Other Federal Requirements) is primarily intended for local program management and is only viewed by HUD during routine monitoring visits. The written agreement with the owner for long-term obligation (§ 92.504) and tenant protections (§ 92.253) are required to ensure that the property owner complies with these important elements of the HOME Program and are also reviewed by HUD during monitoring visits. HUD reviews all other data collection requirements during monitoring to assure compliance with the requirements of Title II and other related laws and authorities.

The additional information collected from the new IDIS Performance Measurement screens is used by HUD and HOME Program PJs. HUD tracks PJ performance in complying with the statutory requirements of 24 CFR Part 91 and 92. PJs use the required information in the execution of their program, and to gauge their own performance in relation to stated goals.

Agency form numbers, if applicable: None.

Members of affected public: State and local government participating jurisdictions.

Estimation of the Total Numbers of Hours Needed To Prepare the Information Collection Including Number of Respondents, Frequency of Response, and Hours of Response
Reg. section | Paperwork requirement | Recordkeeping hours | Reporting hours | Number of jurisdictions | Total hours
§ 92.61 | Program Description and Housing Strategy for Insular Areas |  | 10 | 4 | 40
§ 92.66 | Reallocation—Insular Areas |  | 3 | 4 | 12
§ 92.101 | Consortia Designation |  | 5 | 36 | 180
§ 92.200 | Private-Public Partnership | 2 |  | 594 | 1,188
§ 92.201 | Distribution of Assistance | 2 |  | 594 | 1,188
§ 92.201 | State Designation of Local Recipients |  | 1.5 | 51 | 76.5
§ 92.202 | Site and Neighborhood Standards | 2 |  | 594 | 1,188
§ 92.203 | Income Determination | 2 |  | 6,667 | 13,334
§ 92.206 § 92.216 § 92.217 § 92.218 § 92.250 § 92.252 § 92.254 | Documentation required by HUD to be included in project file to determine project eligibility, i.e., eligible uses and costs, cost limits, mixed-projects and value | 5 | 6,667 | 33,335
§ 92.206 | Eligible Costs—Refinancing |  | 4 | 100 | 400
§ 92.251 | Written Property Standards | 1 |  | 6,667 | 6,667
§ 92.253 | Tenant Protections (including lease requirement) | 5 |  | 6,667 | 33,335
§ 92.254 | Homeownership—Median Purchase Price | 5 |  | 80 | 400
§ 92.254 | Homeownership—Alternative to Resale/recapture |  | 5 | 100 | 500
§ 92.300 | CHDO Identification | 2 |  | 594 | 1,188
§ 92.300 | Designation of CHDOs |  | 1.5 | 480 | 720
§ 92.300 | CHDO Project Assistance | 2 |  | 594 | 1,188
§ 92.303 | Tenant Participation Plan | 10 |  | 4,171 | 41,710
§ 92.350 | Equal Opportunity (including nondiscrimination, and minority and women business enterprise and minority outreach efforts) | 5 |  | 6,667 | 33,335
§ 92.351 | Affirmative Marketing | 10 |  | 6,667 | 66,670
§ 92.353 | Displacement, relocation and acquisition (including tenant assistance policy) | 5 |  | 6,667 | 33,335
§ 92.354 | Labor | 2.5 |  | 6,667 | 16,667.50
§ 92.355 | Lead-based paint | 1 |  | 6,667 | 6,667
§ 92.357 | Debarment and Suspension | 1 |  | 6,667 | 6,667
§ 92.501 | Investment Partnership Agreement | 0.5 | 0.5 | 598 | 598
§ 92.502 | Homeownership and Rental Set-Up and Completion (IDIS) |  | 16 | 594 | 9,504
§ 92.502 | Tenant-Based Rental Assistance Set-Up (IDIS) |  | 5.5 | 225 | 1,237.50
§ 92.502 | IDIS Performance Measurement Set-Up and Completion Screens |  | 21 | 6,671 | 140,091
§ 92.504 | Participating Jurisdiction's Written Agreements | 10 |  | 6,667 | 66,670
§ 92.509 | Management Reports—Annual Performance Reports |  | 2.5 | 598 | 1,495
§ 92.509 | Management Reports—FY Match Report |  | 0.75 | 594 | 445.5
§ 91.220 | Describe the use of ADDI funds |  | 1 | 427 | 427
§ 91.220 | Describe the Plan for outreach |  | 1 | 427 | 427
§ 91.220 | Describe plan to ensure suitability of families |  | 1 | 427 | 427
§ 91.604 | Describe prior commitment |  | 1 | 37 | 37
§ 91.616 | Confirm first-time homebuyer status | 0.1 |  | 427 | 43
§ 92.502 | Input first-time homebuyer status (IDIS) |  | 0.2 | 427 | 85
Total Annual Respondent and Burden Hours |  |  |  | 6,667 | 521,478
Estimate of Respondent Cost: 521,478 hours × $31/hour = $16,165,818.

Authority: The Paperwork Reduction Act of 1995, 44 U.S.C. Chapter 35, as amended.

Dated: March 3, 2006.
Pamela H. Patenaude,
Assistant Secretary for Community Planning and Development.

[FR Doc. 06-2345 Filed 3-10-06; 8:45 am]

BILLING CODE 4210-67-M